INTERNATIONAL TRADE COMMISSION

[Investigation No. 337-TA-1462]

Certain Liquid Crystal Display Devices, Components Thereof, and Products Containing the Same; Notice of Institution of Investigation

AGENCY: U.S. International Trade Commission.

ACTION: Notice.

SUMMARY: Notice is hereby given that a complaint was filed with the U.S. International Trade Commission on August 29, 2025, under section 337 of the Tariff Act of 1930, as amended, on behalf of BH Innovations LLC of New York, New York. The complaint was amended on September 19, 2025, to add Longitude Licensing Limited of Ireland, and 138 East LCD Advancements Ltd. of Ireland as complainants. A supplement to the complaint was filed on September 25, 2025. The complaint, as amended and supplemented, alleges violations of section 337 based upon the importation into the United States, the sale for importation, and the sale within the United States after importation of certain liquid crystal display devices, components thereof, and products containing the same by reason of the infringement of certain claims of U.S. Patent No. 7,705,948 (“the '948 patent”) and U.S. Patent No. 7,570,334 (“the '334 patent”). The complaint further alleges that an industry in the United States exists as required by the applicable Federal Statute. The complainants request that the Commission institute an investigation and, after the investigation, issue a limited exclusion order and cease and desist orders.

ADDRESSES: The complaint, except for any confidential information contained therein, may be viewed on the Commission's electronic docket (EDIS) at https://edis.usitc.gov. For help accessing EDIS, please email EDIS3Help@usitc.gov. Hearing impaired individuals are advised that information on this matter can be obtained by contacting the Commission's TDD terminal on (202) 205-1810. Persons with mobility impairments who will need special assistance in gaining access to the Commission should contact the Office of the Secretary at (202) 205-2000. General information concerning the Commission may also be obtained by accessing its internet server at https://www.usitc.gov.

FOR FURTHER INFORMATION CONTACT: Susan Orndoff, The Office of Docket Services, U.S. International Trade Commission, telephone (202) 205-2560 or (202) 205-1802.

SUPPLEMENTARY INFORMATION:

Authority: The authority for institution of this investigation is contained in section 337 of the Tariff Act of 1930, as amended, 19 U.S.C. 1337, and in section 210.10 of the Commission's Rules of Practice and Procedure, 19 CFR 210.10 (2025).

Scope of Investigation: Having considered the complaint, the U.S. International Trade Commission, on November 24, 2025, ordered that—

(1) Pursuant to subsection (b) of section 337 of the Tariff Act of 1930, as amended, an investigation be instituted to determine whether there is a violation of subsection (a)(1)(B) of section 337 in the importation into the United States, the sale for importation, or the sale within the United States after importation of certain products identified in paragraph (2) by reason of infringement of one or more of claim 1 of the '948 patent and claim 1 of the '334 patent, and whether an industry in the United States exists as required by subsection (a)(2) of section 337;

(2) Pursuant to section 210.10(b)(1) of the Commission's Rules of Practice and Procedure, 19 CFR 210.10(b)(1), the plain language description of the accused products or category of accused products, which defines the scope of the investigation, is “LCD devices composed of two glass substrates sandwiching a layer of liquid crystal pixels and the associated circuitry for controlling the amount of light passing through those pixels, components thereof, and products containing same”;

(3) For the purpose of the investigation so instituted, the following are hereby named as parties upon which this notice of investigation shall be served:

(a) The complainants are:

BH Innovations LLC, 401 East 89th Street, #18B, New York, NY 10128.

Longitude Licensing Limited, Plaza 255, Blanchardstown Corporate Park 2, Dublin 15, D15 YH6H, Ireland.

138 East LCD Advancements Ltd., Plaza 255, Blanchardstown Corporate Park 2, Dublin 15, D15 YH6H, Ireland.

(b) The respondents are the following entities alleged to be in violation of section 337, and are the parties upon which the complaint is to be served:

HKC Corporation Ltd., 5F and 7F, Factory Building 1, HKC Industrial Park, 1 Gongye 2nd Road, Baoan District, Shenzhen City, Guangdong Province, 518108, China.

Chongqing HKC Optoelectronics, Technology Co., Ltd., No. 1 Shijing Road, Jieshi, Banan District, Chongqing, 401320, China.

HKC Overseas Ltd., Unit 8 28/F W50, 50 Wong Chuk Hang Road, Hong Kong.

HiSense Co., Ltd., 22F, Hisense Tower, 17 Donghai Xi Road, Qingdao, 266071, China.

HiSense International Co., Ltd., 22F, Hisense Tower, 17 Donghai Xi Road, Qingdao, 266071, China.

HiSense Visual Technology Co. Ltd. 218 Qianwangang Road, Qingdao Economic & Technological, Development Zone, Qingdao, 266555, China.

HiSense US Corporation., 7310 McGinnis Ferry Rd., Suwanee, GA 30024.

VIZIO Holding Corp., 39 Tesla, Irvine, California 92618.

TCL Electronics Holdings Ltd., 5/F, Building 22E, 22 Science Park East Avenue, Hong Kong Science Park, Shatin, New Territories, Hong Kong.

Shenzhen TCL New Technology Co. Ltd., TCL Electronics Building, TCL International E City, 1001 Zhongshanyuan Road, Nanshan District, Shenzhen, Guangdong, Province, 518052, China.

TCL King Electrical Appliances Co. Ltd., No.78, Huifeng 4th Road, Huihuan Town, Huicheng District, Huizhou, Guangdong, Province, 516006, China.

TTE Technology Inc., 189 Technology Drive, Irvine, California 92618.

TCL Technology Group Corp., TCL Tech Building, 17 Huifeng Third Road, Zhongkai Hi-Tech Development District, Huizhou City, Guangdong Province, 516006, China.

TCL Moka International Ltd., TCL Tower, 8 Tai Chung Road, Tsuenwan, New Territories, Hong Kong.

TCL Overseas Marketing Ltd., 22 Science Park East Avenue, Hong Kong Science Park, Shatin, New Territories, Hong Kong.

TCL Industries Holdings Co., Ltd., TCL Electronics Tower, Building D4, TCL International E City, 1001 Zhongshanyuan Road, Nanshan District, Shenzhen, Guangdong, Province, 518052, China.

TCL Smart Device (Vietnam) Co. Ltd., No. 26 VSIP II-A, Road No. 32, Viet Nam—Singapore II-A Industrial Park, Tan Binh Town, North Tan Uyen District, Binh Duong Province, Vietnam.

LG Electronics, Inc., LG Twin Towers, 20 Yoido-dong, Youngdungpo-gu, Seoul, Republic of Korea.

LG Electronics USA, Inc., 111 Sylvan Avenue, Englewood Cliffs, New Jersey 07632.

Westinghouse Electric Corporation, 4000 Town Center Blvd., Suite 210, Canonsburg, Pennsylvania 15317.

(4) For the investigation so instituted, the Chief Administrative Law Judge, U.S. International Trade Commission, shall designate the presiding Administrative Law Judge.

The Office of Unfair Import Investigations will not participate as a party in this investigation.

Responses to the complaint and the notice of investigation must be submitted by the named respondents in accordance with section 210.13 of the Commission's Rules of Practice and Procedure, 19 CFR 210.13. Pursuant to 19 CFR 201.16(e) and 210.13(a), such responses will be considered by the Commission if received not later than 20 days after the date of service by the Commission of the complaint and the notice of investigation. Extensions of time for submitting responses to the complaint and the notice of investigation will not be granted unless good cause therefor is shown.

Failure of a respondent to file a timely response to each allegation in the complaint and in this notice may be deemed to constitute a waiver of the right to appear and contest the allegations of the complaint and this notice, and to authorize the administrative law judge and the Commission, without further notice to the respondent, to find the facts to be as alleged in the complaint and this notice and to enter an initial determination and a final determination containing such findings, and may result in the issuance of an exclusion order or a cease and desist order or both directed against the respondent.

By order of the Commission.
Issued: November 24, 2025.
Lisa Barton,
Secretary to the Commission.

[FR Doc. 2025-21350 Filed 11-26-25; 8:45 am]

BILLING CODE 7020-02-P